DEPARTMENT OF COMMERCE

National Oceanic and Atmospheric Administration

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of the Shrimp Permit Moratorium Working Group.

DATES: The meeting will be held on Wednesday, February 18, 2015, from 9 a.m. until 5 p.m.

ADDRESSES: The meeting will be held at the Gulf of Mexico Fishery Management Council office, 2203 North Lois Avenue, Suite 1100, Tampa, FL 33607; telephone: (813) 348-1630.

FOR FURTHER INFORMATION CONTACT: Dr. Morgan Kilgour, Fishery Biologist, Gulf of Mexico Fishery Management Council; telephone: (813) 348-1630; fax: (813) 348-1711; email: morgan.kilgour@gulfcouncil.org.

SUPPLEMENTARY INFORMATION: The items of discussion on the agenda are as follows:

Shrimp Permit Moratorium Working Group Agenda, Wednesday, February 18, 2015, 9 a.m. Until 5 p.m.

(1) Introduction—Shrimp 17 Scoping Document

(2) Council Charge—To have staff convene a meeting of a Shrimp Working Group as recommended by the SSC

(3) Overview of Shrimp Amendment 13

(4) Biological yield—MSY workshop summary/ABC control rule

(5) CPUE

a. SEAMAP

b. Fishery Dependent

(6) Permit activity status

a. Transfers

b. Terminations

c. Landings per permit

(7) Economic yield

(8) Community make-up of the shrimp fishery

(9) Ecosystem considerations

a. Bycatch—review of BiOp

b. Habitat

c. Ecosystem Working Group recommendations

(10) Other Business

—Adjourn—

For meeting materials see folder “Shrimp Permit Moratorium Working Group Feb 2015 ” on Gulf Council file server. To access the file server, the URL is https://public.gulfcouncil.org:5001/webman/index.cgi, or go to the Council's Web site and click on the FTP link in the lower left of the Council Web site (http://www.gulfcouncil.org). The username and password are both “gulfguest”. The Agenda is subject to change.

The meeting will be webcast over the internet. A link to the webcast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: January 28, 2015.
Tracey L. Thompson,
Acting Deputy Director, Office of Sustainable Fisheries, National Marine Fisheries Service.

[FR Doc. 2015-01899 Filed 1-30-15; 8:45 am]

BILLING CODE 3510-22-P